DEPARTMENT OF TRANSPORTATION

Federal Aviation Administration

14 CFR Part 71

[Docket No. FAA-2020-0889; Airspace Docket No. 20-ASO-25]

RIN 2120-AA66

Amendment of Class D Airspace, and Class E Airspace; Smyrna, TN

AGENCY: Federal Aviation Administration (FAA), DOT.

ACTION: Final rule; correction.

SUMMARY: A final rule was published in the Federal Register on February 23, 2021, amending Class D and E airspace at Smyrna Airport, Smyrna, TN. This action corrects the legal description of the Class D airspace by amending the southeastern bearing from the airport to 139°.

DATES: Effective 0901 UTC, December 2, 2021. The Director of the Federal Register approves this incorporation by reference action under Title 1CFR, part 51, subject to the annual revision of FAA Order 7400.11 and publication of conforming amendments.

FOR FURTHER INFORMATION, CONTACT: John Fornito, Operations Support Group, Eastern Service Center, Federal Aviation Administration, 1701 Columbia Avenue, College Park, GA 30337; telephone (404) 305-6364.

SUPPLEMENTARY INFORMATION:

History

The FAA published a final rule in the Federal Register (86 FR 10812, February 23, 2021) for Doc. No. FAA-2020-0889, amending Class D airspace Class E airspace at Smyrna Airport, Smyrna, TN.

Subsequent to publication, the FAA found the southeastern extension of the Class D airspace was listed as the 142° bearing from the airport. The bearing should be the 139° bearing from the airport. This action corrects this error.

Class D and Class E airspace designations are published in Paragraph 5000, and 6005, respectively, of FAA Order 7400.11E, dated July 21, 2020, and effective September 15, 2020, which is incorporated by reference in 14 CFR 71.1. The Class E airspace designations listed in this document will be published subsequently in the Order.

Correction to Final Rule

This action amends 14 CFR part 71 by correcting the descriptor of Class D airspace for Smyrna Airport, Smyrna, TN as follows.

The first sentence of the legal description for the Class D airspace at Smyrna Airport is amended to read “That airspace extending upward from the surface to but not including 2,500 feet MSL within a 3.9-mile radius of the Smyrna Airport, and within 1.2 miles each side of the 139° bearing from the airport, extending from the 3.9-mile radius to 5.5-miles southeast of the airport, and within 1.2-miles each side of the 184° bearing from the airport, extending from the 3.9-mile radius to 5.5-miles south of the airport.”

Regulatory Notices and Analyses

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, effective September 15, 2020, is amended as follows:

Paragraph 5000 Class D Airspace.

* * * * *

ASO TN D Smyrna, TN [Amended]

Smyrna Airport, TN

(Lat. 36°00′32″ N, long. 86°31′12″ W)

That airspace extending upward from the surface to but not including 2,500 feet MSL within a 3.9-mile radius of the Smyrna Airport, and within 1.2 miles each side of the 139° bearing from the airport, extending from the 3.9-mile radius to 5.5-miles southeast of the airport, and within 1.2-miles each side of the 184° bearing from the airport, extending from the 3.9-mile radius to 5.5-miles south of the airport. This Class D airspace area is effective during the specific dates and times established in advance by a Notice to Airmen. The effective dates and times will thereafter be continuously published in the Chart Supplement.

Issued in College Park, Georgia, on August 17, 2021.
Matthew N. Cathcart,
Manager, Operations Support Group, Eastern Service Center, Air Traffic Organization.

[FR Doc. 2021-17878 Filed 8-19-21; 8:45 am]

BILLING CODE 4910-13-P